DEPARTMENT OF ENERGY

Federal Energy Regulatory Commission

Combined Notice of Filings #2

Take notice that the Commission received the following electric rate filings:

Docket Numbers: ER21-2128-004; ER21-2129-004; ER22-529-005; ER12-21-031; ER11-2211-019; ER11-2209-019; ER11-2210-019; ER11-2206-019; ER11-2207-019; ER13-1150-017; ER13-1151-017; ER23-2406-004; ER11-2855-033; ER21-1923-005; ER12-1238-013; ER18-814-010; ER13-1562-014; ER24-139-003; ER19-1200-016; ER12-1239-013; ER23-200-002; ER23-1577-005; ER23-175-007; ER24-3059-003; ER13-1991-041; ER13-1992-041; ER10-2385-016; ER11-3727-025; ER16-853-009; ER25-3426-002; ER25-3144-002; ER16-855-009; ER16-856-009; ER16-857-009; ER10-2346-015; ER10-2812-022; ER10-1291-029; ER10-2843-021; ER20-486-010; ER16-1403-003; ER25-1220-003; ER25-3427-002; ER16-858-009; ER16-860-009; ER12-1711-025; ER25-2809-002; ER16-861-009; ER10-2368-013; ER10-2353-015; ER25-1316-002; ER19-672-010; ER10-2383-016; ER10-2384-014; ER25-2977-001; ER11-4351-017; ER20-2014-005; ER10-2382-014; ER11-2856-033; ER10-2357-014; ER19-1061-010; ER19-1062-006; ER19-843-010; ER19-1063-010; ER19-844-006; ER14-2820-014; ER14-2821-014; ER11-2857-033; ER10-2369-013; ER23-2403-004; ER10-2381-018; ER25-687-002; ER10-2361-015; ER21-963-007; ER10-2394-011; ER10-2395-011; ER18-2033-006; ER10-1625-011; ER25-2043-002; ER25-3029-002; ER25-823-003; ER10-3310-019; ER20-3036-004; ER20-3037-004; ER18-140-017.

Applicants: Lackawanna Energy Center LLC, Vopak Industrial Infrastructure Americas St. Charles, LLC, Vopak Industrial Infrastructure Americas Plaquemine, LLC, New Harquahala Generating Company, LLC, Painter Energy Storage, LLC, Tibbits Energy Storage LLC, Shallow Basket Energy, LLC, Tenaska Georgia Partners, L.P., Saavi Energy Solutions, LLC, Colorado Power Partners, BIV Generation Company, L.L.C., Silverstrand Grid, LLC, Wildorado Wind, LLC, Washington Wind LLC, Walnut Creek Energy, LLC, Victory Pass I, LLC, Taloga Wind, LLC, Sun City Project LLC, Spring Canyon Energy III LLC, Spring Canyon Energy II LLC, Solar Roadrunner LLC, Solar Borrego I LLC, Solar Blythe LLC, Solar Avra Valley LLC, Solar Alpine LLC, Sleeping Bear, LLC, Sand Drag LLC, San Juan Mesa Wind Project, LLC, Rattlesnake Flat, LLC, Pinnacle Wind, LLC, Mount Storm Wind LLC, Mountain Wind Power, LLC, Mountain Wind Power II LLC, Marsh Landing LLC, Luna Valley Solar I, LLC, Lookout WindPower LLC, Laredo Ridge Wind, LLC, Iron Springs Solar, LLC, Iron Springs BESS LLC, High Plains Ranch II, LLC, Granite Mountain Solar West, LLC, Granite Mountain Solar East , LLC, Granite Mountain BESS East LLC, Golden Fields Solar IV Bess LLC, Golden Fields Solar IV, LLC, Golden Fields Solar III, LLC, GenConn Middletown LLC, GenConn Energy LLC, GenConn Devon LLC, Forward WindPower LLC, Escalante Solar III, LLC, Escalante Solar II, LLC, Escalante Solar I, LLC, Escalante BESS I LLC, Enterprise Storage LLC, Enterprise Solar, LLC, El Segundo Energy Center LLC, Elkhorn Ridge Wind, LLC, Desert Sunlight 300, LLC, Desert Sunlight 250, LLC, Dan's Mountain Wind Force, LLC, Daggett Solar Power 3 LLC, Daggett Solar Power 2 LLC, Daggett Solar Power 1 LLC, Crofton Bluffs Wind, LLC, Clearway Power Marketing LLC, Cedar Creek Wind, LLC, Catalina Solar Lessee, LLC, Carlsbad Energy Center LLC, Broken Bow Wind, LLC, Black Rock Wind Force, LLC, Avenal Park LLC, Arica Solar, LLC, Alta Wind XI, LLC, Alta Wind X, LLC, Alta Wind IV, LLC, Alta Wind V, LLC, Alta Wind III, LLC, Alta Wind II, LLC, Alta Wind I, LLC, Agua Caliente Solar, LLC, 299F2M WHAM8 SOLAR, LLC, 276FED WHAM8 SOLAR, LLC, 0HAM WHAM8 SOLAR, LLC.

Description: Notice of Change in Status of 0HAM WHAM8 SOLAR, LLC, et al.

Filed Date: 1/30/26.

Accession Number: 20260130-5607.

Comment Date: 5 p.m. ET 2/20/26.

Docket Numbers: ER21-2712-006; ER13-2386-014; ER10-2847-012; ER10-2818-019; ER10-2806-019.

Applicants: TransAlta Energy Marketing (U.S.) Inc., TransAlta Energy Marketing Corporation, TransAlta Centralia Generation LLC, Lakeswind Power Partners, LLC, Heartland Generation Ltd.

Description: Notice of Non-Material Change in Status of Heartland Generation Ltd, et al.

Filed Date: 1/30/26.

Accession Number: 20260130-5608.

Comment Date: 5 p.m. ET 2/20/26.

Docket Numbers: ER25-3327-001.

Applicants: JERA Americas Energy Services LLC.

Description: Tariff Amendment: Deficiency Response—Supplement to MBR Application Docket ER25-3327—to be effective 10/27/2025.

Filed Date: 2/13/26.

Accession Number: 20260213-5122.

Comment Date: 5 p.m. ET 3/6/26.

Docket Numbers: ER26-1375-000.

Applicants: PJM Interconnection, L.L.C.

Description: 205(d) Rate Filing: Original NUCRA, Network Upgrade No. n9201.0, Service Agreement No. 7861 to be effective 12/31/9998.

Filed Date: 2/13/26.

Accession Number: 20260213-5080.

Comment Date: 5 p.m. ET 3/6/26.

Docket Numbers: ER26-1376-000.

Applicants: Midcontinent Independent System Operator, Inc., Union Electric Company.

Description: 205(d) Rate Filing: Union Electric Company submits tariff filing per 35.13(a)(2)(iii: 2026-02-13_SA 4679 Ameren Missouri-CWL Coordination Agreement to be effective 2/14/2026.

Filed Date: 2/13/26.

Accession Number: 20260213-5091.

Comment Date: 5 p.m. ET 3/6/26.

Docket Numbers: ER26-1377-000.

Applicants: Southwest Power Pool, Inc.

Description: 205(d) Rate Filing: 2065R5 Evergy Kansas Central, Inc. NITSA NOA to be effective 12/1/2025.

Filed Date: 2/13/26.

Accession Number: 20260213-5094.

Comment Date: 5 p.m. ET 3/6/26.

Docket Numbers: ER26-1378-000.

Applicants: PJM Interconnection, L.L.C.

Description: 205(d) Rate Filing: Original NUCRA, Network Upgrade No. n9225.0, Service Agreement No. 7865 to be effective 12/31/9998.

Filed Date: 2/13/26.

Accession Number: 20260213-5103.

Comment Date: 5 p.m. ET 3/6/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: February 13, 2026.
Carlos D. Clay,
Deputy Secretary.

[FR Doc. 2026-03320 Filed 2-19-26; 8:45 am]

BILLING CODE 6717-01-P